DEPARTMENT OF ENERGY

Federal Energy Regulatory Commission

[Docket No. EL00-62-032, et al.]

New England Inc., et al.; Electric Rate and Corporate Regulation Filings

July 19, 2001.

Take notice that the following filings have been made with the Commission:

1. ISO New England Inc., New England Power Pool

[Docket Nos. EL00-62-032]

Take notice that on July 13, 2001, ISO New England Inc. submitted its Report of Compliance in response to the Commission's June 13, 2001 Order in these proceedings.

Copies of said filing have been served upon all parties to this proceeding, upon NEPOOL Participants, and upon all non-Participant entities that are customers under the NEPOOL Open Access Transmission Tariff, as well as upon the utility regulatory agencies of the six New England States.

Comment date: August 3, 2001, in accordance with Standard Paragraph E at the end of this notice.

2. ISO New England Inc., New England Power Pool

[Docket Nos. EL00-62-033 and ER98-3853-010 (Not consolidated)]

Take notice that on July 13, 2001, the New England Power Pool (NEPOOL) Participants Committee filed a Report of Compliance which included amendments to the Restated NEPOOL Agreement, NEPOOL Tariff, Market Rule and Procedure 5, and the Implementation Rule to Attachment F of the NEPOOL Tariff. NEPOOL states that these changes are intended to effect compliance with the Commission's June 13, 2001 orders in Docket Nos. EL00-62-004 et al., ISO New England Inc., 95 FERC ¶61,384 (2001) and in Docket No. ER98-2335-005, New England Power Pool, 95 FERC ¶61,383 (2001).

The NEPOOL Participants Committee states that copies of these materials were sent to all persons on the Commission's official services lists in these proceedings, the NEPOOL Participants, Non-Participant Transmission Customers, and the New England state governors and regulatory commissions.

Comment date: August 3, 2001, in accordance with Standard Paragraph E at the end of this notice.

3. ISO New England Inc., New England Power Pool

[Docket Nos. EL00-62-033 and ER98-3853-010]

Take notice that on July 17, 2001, the New England Power Pool (NEPOOL) Participants Committee filed a supplement to its July 13, 2001 Report of Compliance, which proposed amendments to the Restated NEPOOL Agreement, NEPOOL Tariff, Market Rule 5 and the Implementation Rule to Attachment F of the NEPOOL Tariff in order to effect compliance with the Commission's June 13, 2001 orders in Docket Nos. EL00-62-004 et al., ISO New England Inc., 95 FERC ¶ 61,384 (2001) and in Docket No. ER98-3853-005, New England Power Pool, 95 FERC ¶ 61,383 (2001). NEPOOL's July 17, 2001 supplement informs the Commission that no appeals have been filed concerning the Market Rule changes proposed in the Report of Compliance.

The NEPOOL Participants Committee states that copies of these materials were sent to all persons on the Commission's official services lists in these proceedings, the NEPOOL Participants, Non-Participant Transmission Customers, and the New England state governors and regulatory commissions.

Comment date: August 3, 2001, in accordance with Standard Paragraph E at the end of this notice.

4. USGen New England, Inc.

[Docket No. EL01-103-000]

Take notice that on July 16, 2001, USGen New England, Inc. (USGenNE) tendered for filing a Petition for a Declaratory Order requesting a Commission ruling regarding the provision of station power to USGenNE.

Comment date: August 15, 2001, in accordance with Standard Paragraph E at the end of this notice.

5. Dynegy Power Marketing, Inc., Complainant v. Southwest Power Pool, Inc. Respondent

[Docket No. EL01-104-000]

Take notice that on July 17 , 2001, Dynegy Power Marketing, Inc. (Dynegy) tendered for filing a Complaint against the Southwest Power Pool, Inc., (SPP).

In its Complaint, Dynegy alleges that the SPP has violated its Open Access Transmission Tariff (OATT) by unreasonably restricting Point-to-Point Transmission Services customers' right to change of receipt and delivery points on a firm basis. Dynegy has requested Fast Track Processing of its Complaint.

Comment date: July 27, 2001, in accordance with Standard Paragraph E at the end of this notice.

6. AES Medina Valley Cogen, L.L.C.

[Docket No. ER01-788-001]

Take notice AES Medina Valley Cogen, L.L.C. (Medina), Mossville, Illinois, on July 16, 2001, made a filing with the Commission of a Revised Tolling Agreement with Central Illinois Light Company to make energy sales.

Copies of the filing were served on the affected customer and the Illinois Commerce Commission.

Comment date: August 6, 2001, in accordance with Standard Paragraph E at the end of this notice.

7. Mid-Continent Area Power Pool

[Docket No. ER01-2207-000]

Take notice that on July 16, 2001, the Mid-Continent Area Power Pool (MAPP), on behalf of its public utility members, notified the Commission that the NERC automated generation to load process has been integrated into the current MAPP system and to request that the Commission accept its proposed amendments to Schedule F, implementing the NERC TLR procedures, to become effective on July 16, 2001.

Copies of this filing have been served on each person designated on the official service list compiled by the Secretary in this proceeding. In addition, a copy of this filing has been provided to all MAPP members as well as the affected state commissions in the MAPP region.

Comment date: August 6, 2001, in accordance with Standard Paragraph E at the end of this notice.

8. Virginia Electric and Power Company

[Docket No. ER01-2403-001]

Take notice that on July 16, 2001, Virginia Electric and Power Company (Dominion Virginia Power) tendered for filing a substitute executed Generator Interconnection and Operating Agreement (Substitute Interconnection Agreement) with Tractebel North America Services, Inc. (Tractebel) for the Tractebel Phase I Project. The Substitute Interconnection Agreement includes two typographical corrections and a clarification to an appendix in the original Generator Interconnection and Operating Agreement previously filed in this docket. Consistent with its earlier filing, Dominion Virginia Power requests that Commission accept this filing to make the Substitute Interconnection Agreement effective on August 22, 2001.

Copies of the filing were served upon Tractebel North America Services, Inc. and the Virginia State Corporation Commission.

Comment date: August 6, 2001, in accordance with Standard Paragraph E at the end of this notice.

9. American Transmission Company LLC

[Docket No. ER01-2591-000]

Take notice that on July 13, 2001, American Transmission Company LLC (ATCLLC) tendered for filing a long-term Firm Point-to-Point Service Agreement for Alliant Energy Corporate Services Inc. and short-term firm and non-firm Point-to-Point Service Agreements for Constellation Power Source, Inc.

ATCLLC requests any necessary waivers of the Commission's regulations to allow an effective date of January 1, 2001.

Comment date: August 3, 2001, in accordance with Standard Paragraph E at the end of this notice.

10. Midwest Independent Transmission System Operator, Inc.

[Docket No. ER01-2592-000]

Take notice that on July 13, 2001, the Midwest Independent Transmission System Operator, Inc. (Midwest ISO) requested the Commission to approve its amendments to the Bylaws, as well as the Agreement of Transmission Facilities Owners to Organize the Midwest ISO with regard to (i) the manner in which succeeding Directors are elected to the Midwest ISO Board of Directors and (ii) the inclusion of certain categories of business transactions to the list of topics which may be discussed during confidential executive sessions of the Board of Directors. Copies of this filing were electronically served upon Midwest ISO Members, Member representatives of Transmission Owners and Non-Transmission Owners, the Midwest ISO Advisory Committee participants, Policy Subcommittee participants, as well as all state commissions within the region.

The Midwest ISO requests that the amendments become effective September 1, 2001.

Comment date: August 3, 2001, in accordance with Standard Paragraph E at the end of this notice.

11. Virginia Electric and Power Company

[Docket No. ER01-2593-000]

Take notice that on July 13, 2001, Virginia Electric and Power Company (Dominion Virginia Power or the Company) tendered for filing the Service Agreement for Firm Point-to-Point Transmission Service by Virginia Electric and Power Company to Five Forks Energy Associates, LLC designated as Service Agreement No. 330 under the Company's FERC Electric Tariff, Second Revised Volume No. 5 and the Service Agreement for Non-Firm Point-to-Point Transmission Service by Virginia Electric and Power Company to Five Forks Energy Associates, LLC designated as Service Agreement No. 331 under the Company's FERC Electric Tariff, Second Revised Volume No. 5.

Dominion Virginia Power requests an effective date of July 13, 2001, the date of filing of the service agreement.

Copies of the filing were served upon Five Forks Energy Associates, LLC, the Virginia State Corporation Commission, and the North Carolina Utilities Commission.

Comment date: August 3, 2001, in accordance with Standard Paragraph E at the end of this notice.

12. NEU Management Committee

[Docket No. ER01-2596-000]

Take notice that on July 13, 2001, the NEU Management Committee, acting on behalf of the parties to the Agreement with Respect to Use of Quebec Interconnection, as amended, filed a Third Amended And Restated Agreement With Respect To Use Of Quebec Interconnection (Restated Use Agreement) and a related agreement entitled “Agreement With Respect To Third Amendment And Restatement Of Agreement With Respect To Use Of Quebec Interconnection” (Agreement) and related materials.

The NEU Management Committee states that copies of these materials were sent to the New England state governors and regulatory commissions and all Interconnection Rights Holders (IRHs) and Indirect IRHs.

Comment date: August 3, 2001, in accordance with Standard Paragraph E at the end of this notice.

13. Central Hudson Gas & Electric Corporation

[Docket No. ER01-2597-000]

Take notice that Central Hudson Gas and Electric Corporation (Central Hudson) on July 16, 2001, tendered for filing revisions to its Rate Schedule FERC No. 201 which sets forth the terms and charges for transmission facilities provided by the Company to Consolidated Edison Company of New York, Inc. (Con Edison) and Niagara Mohawk Power Corporation (Niagara Mohawk) for the transmission of output from the Roseton Generating Station. Central Hudson states that a copy of its filing was served on Con Edison, Niagara Mohawk and the State of New York Public Service Commission.

Central Hudson requests waiver on the notice requirements set forth in 18 CFR 35.11 of the Regulations to permit charges to become effective January 1, 2000 as agreed to by the parties.

Comment date: August 3, 2001, in accordance with Standard Paragraph E at the end of this notice.

14. Puget Sound Energy, Inc.

[Docket No. ER01-2598-000]

Take notice that on July 16, 2001, Puget Sound Energy, Inc., as Transmission Provider, tendered for filing a service agreement for Firm Point-To-Point Transmission Service and a service agreement for Non-Firm Point-To-Point Transmission Service with PG&E Energy Trading—Power, L.P. (PG&E), as Transmission Customer. A copy of the filing was served upon PG&E.

Comment date: August 6, 2001, in accordance with Standard Paragraph E at the end of this notice.

15. Carolina Power & Light Company and Florida Power Corporation

[Docket No. ER01-2599-000]

Take notice that Carolina Power & Light Company (CP&L) and Florida Power Corporation (FPC), on July 16, 2001, filed revisions to their Open Access Transmission Tariffs, CP&L Third Revised Volume No. 3 and FPC Second Revised Volume No. 6. the modification provides that the Tariffs' Generator Interconnection Procedures, Attachment O, apply only in the CP&L zone. The Companies state that the purpose of the filing is to correct their April 26, 2001 filing in Docket No. ER01-1807-001, which inadvertently did not limit the applicability of the Attachment.

Copies of the filing were served upon the Companies' open access transmission customers.

Comment date: August 6, 2001, in accordance with Standard Paragraph E at the end of this notice.

16. West Texas Utilities Company

[Docket No. ER01-2600-000]

Take notice that on July 16, 2001, West Texas Utilities Company (WTU) tendered for filing an Interconnection Agreement, dated June 29, 2000, between WTU and The Lower Colorado River Authority (LCRA). The June 29, 2000 Interconnection Agreement supersedes all existing interconnection and interchange agreements between WTU and LCRA. WTU served copies of the filing on LCRA and the Public Utility Commission of Texas.

WTU seeks an effective date of June 29, 2000 which coincides with the date that this agreement was executed between the parties.

Comment date: August 6, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-18482 Filed 7-24-01; 8:45 am]

BILLING CODE 6717-01-P